DEPARTMENT OF TRANSPORTATION

Federal Highway Administration

23 CFR Part 624

[Docket No. FHWA-2020-0006]

RIN 2125-AF89

Interstate System Access

AGENCY: Federal Highway Administration (FHWA), U.S. Department of Transportation (DOT).

ACTION: Final rule.

SUMMARY: This final rule amends FHWA regulations governing changes in access to the Dwight D. Eisenhower National System of Interstate and Defense Highways (Interstate System). As a condition of funding for Federal-aid highway projects, Federal law prohibits State departments of transportation (State DOT) from adding any point of access to or from the Interstate System without the approval of the Secretary of Transportation. This final rule codifies and clarifies existing policies and practices regarding State DOT requests for, and FHWA approval of, changes in access to the Interstate System.

DATES: This final rule is effective December 9, 2024. Use of this new regulation is required for all State DOT requests for, and FHWA approval of, changes in access to the Interstate System documented in an Interstate Access Justification Report dated after December 9, 2025.

FOR FURTHER INFORMATION CONTACT: Mr. Clayton Wellman, Office of Preconstruction, Construction and Pavements (HICP-10), (202) 366-4658, or via email at Clayton.Wellman@dot.gov, or Mr. Lev Gabrilovich, Office of the Chief Counsel (HCC-30), (202) 366-3813, or via email at Lev.Gabrilovich@dot.gov. Office hours are from 8 a.m. to 4:30 p.m., e.t., Monday through Friday, except Federal holidays.

SUPPLEMENTARY INFORMATION:

Electronic Access and Filing

This document, as well as the notice of proposed rulemaking (NPRM) and all comments received, may be viewed online through the Federal eRulemaking portal at www.regulations.gov using the docket number listed above. Electronic retrieval help and guidelines are also available at www.regulations.gov. An electronic copy of this document may also be downloaded from the Office of the Federal Register's website at www.FederalRegister.gov and the U.S. Government Publishing Office's website at www.GovInfo.gov.

Background and Legal Authority

It is in the national interest to preserve and enhance the Interstate System to meet the needs of the 21st century by ensuring that it provides the highest level of service in terms of safety and mobility. Full control of access along the Interstate mainline and ramps, along with control of access on the crossroad at interchanges, is critical to such service. Under 23 U.S.C. 111 (section 111), all agreements between the Secretary and State DOTs for the construction of projects on the Interstate System shall provide that the State will not add any points of access to, or exit from, the project in addition to those approved by the Secretary in the plans for such project, without the prior approval of the Secretary. Any change to an access point can potentially add or remove access from the Interstate System. Therefore, FHWA historically has interpreted the addition of an access point to include the addition of a new, or modification of an existing, interchange or access point along the Interstate System.¹

¹ See, e.g., 2017 Interstate Access Policy, dated May 22, 2017 (https://www.fhwa.dot.gov/programadmin/fraccess.cfm).

The Secretary has delegated authority to administer section 111 to the Federal Highway Administrator pursuant to 49 CFR 1.85(a)(1). Section 111(e) allows FHWA to delegate to a State DOT authority to approve Interstate Access Justification Reports (IAJR) pertaining to certain changes in access to the Interstate System.

Statement of the Problem and Regulatory History

The FHWA published a NPRM on September 19, 2023 (88 FR 64388), seeking public comment on proposed amendments to its regulations to incorporate provisions governing changes in access to the Interstate System at new 23 CFR part 624. The FHWA received 57 comments submitted to the docket from 19 commenters representing State DOTs, individuals, and planning organizations. After carefully considering the comments received in response to the NPRM, FHWA is promulgating final regulations with changes from the proposed regulatory text. The FHWA did not receive comments on the new information collection associated with this proposal, specifically the submittal of two reports that State DOTs have submitted to FHWA for years under the existing policy: the IAJR and the Programmatic Agreement (PA) annual report.

To facilitate implementation of the statutory requirements regarding changes in access to the federally-funded Interstate System, FHWA recognizes a need to codify and clarify current practices, as set forth in FHWA policy, in regulations. When considering a request for a change in access to the Interstate System, FHWA examines the safety, operations, and engineering (SO&E) aspects of the requested change in access. Historically, FHWA has done this by relying on the information provided in an IAJR submitted by the State DOT. The IAJR contains the project layouts, technical analyses, and other information supporting the change in access request. To date, FHWA has determined whether to approve the request based on the factors listed in FHWA's policy on Access to the Interstate System (Policy).

The FHWA initially developed and published the Policy in October 1990 (55 FR 42670) due to numerous requests by States for additional clarity regarding the justification and documentation necessary to substantiate proposed changes in access to the Interstate System. The FHWA issued subsequent revisions in February 1998, August 2009, and May 2017. The February 11, 1998, revision (63 FR 7045) reflected the planning requirements of the Intermodal Surface Transportation Efficiency Act (ISTEA) of 1991 (Pub. L. 102-240) as implemented in 23 CFR part 450, to clarify coordination between the access request and environmental processes, and to update language. The FHWA issued the 2009 Interstate Access Policy (2009 Policy), published August 27, 2009 (74 FR 43743), to reflect the direction provided in Safe, Accountable, Flexible, Efficient Transportation Equity Act: A Legacy for Users (SAFETEA-LU) (Pub. L. 109-59) to clarify the operational and safety analysis and assessment of impacts that provides the basis for proposed changes in access to the Interstate System. The 2009 Policy also updated language to reference Federal laws, regulations, and FHWA policies. Finally, FHWA issued the 2017 Interstate Access Policy (2017 Policy), dated May 22, 2017 (www.fhwa.dot.gov/programadmin/fraccess.cfm), to reduce duplication with other project reviews. The 2017 Policy focused on the technical feasibility of any change in access in support of FHWA's determination of safety, operational, and engineering acceptability without including additional documentation related to other activities in the project development (i.e. planning, preliminary design, environmental analysis, final design, right-of-way acquisition, and construction) process. Codifying and clarifying current practices under the 2017 Policy in regulation facilitates implementation of the statutory requirements regarding changes in access to the Interstate System. This process is separate from the de-designation of Interstate segments that are processed through FHWA's Office of Planning, Environment, and Realty, and this rulemaking does not impact the separate de-designation process.

Interstate System Access Regulation at 23 CFR Part 624

This rule establishes requirements for the justification and documentation necessary for a State DOT to substantiate proposed changes in access to the Interstate System. These requirements are consistent with the existing policies and practices described above. It facilitates decisionmaking regarding proposed changes in access to the Interstate System in a manner that considers SO&E. Consistent with 23 U.S.C. 109(a) and (b) and 23 U.S.C. 111, new or modified points of access to the Interstate System must be approved by FHWA if a Federal-aid project agreement has ever been executed on the segment of Interstate highway impacted by the proposal. To facilitate these approvals, such new or modified points of access must be developed in accordance with the requirements of this regulation. In addition, new or modified points of access must comply with the requirements in 23 CFR part 625, Design Standards for Highways. As discussed in § 624.8, change in access requests will not be accepted from other parties besides a State DOT. Thus, for projects that do not include State DOT involvement, such as discretionary grants awarded directly to local government entities, any change in access requests must come from the appropriate State DOT.

The FHWA's decision to approve new or revised access points to the Interstate System must be supported by information justifying and documenting the proposed change in access. Therefore, the decision to approve a request is dependent on the IAJR demonstrating that the proposed change in access will not result in a significant adverse impact on the Interstate System traffic operations or the safety in the project's area of influence. In addition, the proposed access must connect to a public road, provide for all traffic movements, be designed to meet or exceed current standards, and demonstrate that the change in access can be clearly and adequately signed.

This regulation identifies the requirements for the change in access request and documentation necessary to substantiate any request that is submitted by a State DOT to FHWA for approval. Once the State DOT's analysis is completed, the analysis must be documented in the form of a standalone IAJR and submitted by the State DOT to FHWA for a SO&E determination. The FHWA expects that an IAJR will be clearly written for someone who is not familiar with the project, the area, or the State. The technical analysis presented in the IAJR enables FHWA to make an informed decision about safety and operational impacts of the change in access to the Interstate System and make the SO&E determination based on those impacts.

The regulation does not alter or restrict the option for FHWA to delegate approval authority for the determination of SO&E acceptability of IAJRs to a State DOT pursuant to 23 U.S.C. 111(e). Nor does it alter a State DOT's ability to assume FHWA environmental review responsibilities under 23 U.S.C. 326 (State assumption of responsibility for categorical exclusions (CE)) or 23 U.S.C. 327 (Surface Transportation Project Delivery Program). The FHWA may grant final approval of an Interstate System change in access request once a favorable SO&E determination has been made by FHWA, and the applicable transportation planning, conformity, and National Environmental Policy Act (NEPA) procedures have been completed. In addition, the alternative selected and approved in the NEPA decision must also be the subject of a favorable SO&E determination. The FHWA retains authority for final approval of changes in access to the Interstate System under the regulation, consistent with current practice.

The section-by-section analysis provides a detailed discussion of the final rule.

Section-by-Section Discussion

The FHWA received 57 comments submitted to the docket from 19 commenters representing State DOTs, individuals, and planning organizations. The following summarizes the comments received and FHWA's responses to the most significant issues raised in the comments. This section discusses the changes to 23 CFR part 624 that FHWA is making in this final rule. For each section, FHWA describes the final rule, explains how, if at all, it differs from the proposed change described in the NPRM, and states the reasons for any changes from the proposal.

General Comments

Comment: The commenters recommended that the name of the technical report required for the justification and documentation of requests for changes in access to the Interstate System be changed from “Interstate Justification Report” to a name that clearly identifies the purpose of the documentation that is provided in the report.

Response: Section 111(e), Title 23 U.S.C., uses the term, “Justification Report” when referring to the technical report developed for the purpose of justifying new or modified access to the Interstate System. States have used various names for these reports to more closely describe the purpose of the report. The FHWA does not propose to require States to use one name for the justification reports but agrees with the commenters that a name more consistent with the purpose of the report would be beneficial. The name of the report has been revised to “Interstate Access Justification Report” throughout part 624.

Comment: A commenter inquired if the 2010 Interstate System Access Informational Guide will be revised to accompany this new Federal Rule.

Response: The FHWA is examining the Interstate System Access Information Guide consistent with the provisions of this final rule.

Comment: One commenter recommended adding information to explain when the final rule will take effect and to which IAJRs it would apply.

Response: The effective date of this regulation is shown above under DATES. Use of this new regulation is required for all State DOT requests for, and FHWA approval of, changes in access to the Interstate System documented in an IAJR dated after December 9, 2025.

Comment: One individual recommended that the Policy be returned to the 2009 version of the Policy.

Response: The streamlined Policy adopted in 2017 eliminated duplicative documentation with other project reviews and has been meeting the needs of the statute. No change was made in the final regulatory text.

§ 624.1 Purpose

Consistent with the proposed regulatory text contained in the September 19, 2023, NPRM, FHWA sets forth the purpose of Part 624 in § 624.1. No change was made in the final regulatory text.

§ 624.3 Applicability

Consistent with the proposed regulatory text, § 624.3 specifies the conditions under which proposed part 624 is applicable. Changes were made to the proposed regulatory text to add two more exceptions in § 624.3(d) and (e) based on comments received.

In § 624.3(d), an exception was added to exclude access to State maintenance facilities located within the Interstate right-of-way and not open to the public from this regulation. Section 111, Title 23 U.S.C., provides the statutory authority for the Interstate System Access rulemaking. The statute applies to added or modified connections from outside of the right-of-way or connections between Interstate highways. State maintenance facilities located within the right-of-way with no connections outside of the right-of-way are not subject to these requirements. Access to these facilities should be evaluated by the State DOT to ensure the design of access points will not have a significant adverse impact on safety and operations.

In § 624.3(e), an exception was added to exclude access points to non-freeway sections of the Interstate System located in Alaska or Puerto Rico with average daily traffic volumes less than 400 vehicles per day from this regulation. The Interstate System in Alaska and Puerto Rico are subject to different design standards under 23 U.S.C. 103, therefore their Interstate System highways are sometimes two-lane rural highways. This exception applies to non-freeway Interstate System segments located in Alaska or Puerto Rico with average daily traffic volumes less than 400 vehicles per day. In such cases, the FHWA Division Administrator shall determine the level of analysis required to secure FHWA approval of the access modification.

Comment: Regarding the applicability of the regulation in § 624.3, a commenter recommended flexibility for Alaska to approve certain types of access that are less than interchange/freeway situations, noting that Alaska is permitted to follow geometric and construction standards that differ from other States and that much of their Interstate system are low volume roads. They requested clarification be added to § 624.3 Applicability or § 624.13 Programmatic Agreement.

Response: Section 111(e), Title 23 U.S.C., provides some flexibility for State DOTs to approve justification reports through the Interstate System Access PA process. The FHWA can provide assistance with exploring the PA process and how it pertains to Alaska's circumstances. The FHWA has revised § 624.3 to clarify an exception for low volume connections to non-freeway segments of the Interstate System located in Alaska or Puerto Rico.

Comment: A commenter requested clarification on whether the exemption in § 624.3(b) includes maintenance access to support facilities such as stormwater management ponds, and other maintenance installations, that are located within the Interstate System right-of-way.

Response: Maintaining stormwater management ponds and other supportive infrastructure would be treated similar to mowing grass along the Interstate, which does not require Interstate Access approval. State DOTs would follow their processes and procedures to ensure that current standards are applied to develop and implement a traffic control plan that maintains safety and operations along the Interstate when maintenance activities are performed. This rulemaking will not impact routine maintenance activities performed within the right-of-way to maintain Interstate facilities. No change was made in the final regulatory text. However, in response to another comment, a new exception was added to the regulatory text in § 624.3 to provide an exception for State maintenance facilities located within the Interstate right-of-way.

Comment: A commenter sought clarification on whether the exemption in § 624.3(b) applies to access to State DOT salt sheds or other maintenance facilities not open to the public and accessible to vehicles only to and from the Interstate System.

Response: Access to State DOT salt sheds or other State maintenance facilities within the Interstate System right-of-way that are not open to the public should be evaluated by the State DOT to ensure the design of access points will not have a significant adverse impact on safety and operations. The FHWA has added an exception to the applicability of this regulation in § 624.3(d) to provide an exception for State maintenance facilities located within the Interstate right-of-way and not open to the public.

Comment: Regarding the exception provision in § 624.3(c), a commenter noted that connection ramps between toll facilities and general-purpose lanes often have a significant impact on the operation and safety of the general-purpose lanes, particularly concerning merging and diverging movements. They recommended further clarification regarding this exception.

Response: Section 111, Title 23 U.S.C., provides the statutory authority for the Interstate System Access rulemaking. The FHWA interprets that the statute applies to added or modified connections from outside of the right-of-way or connections between Interstate highways. The FHWA Policy has been to exclude changes in access between managed lanes and general purpose lanes from FHWA review and action, as noted in the 2010 Interstate Access Informational Guide, section 3.3.2. The guide is available at www.fhwa.dot.gov/design/interstate/pubs/access/access.pdf. The FHWA agrees that it is important for State DOTs to carefully consider the safety and operational impacts of connections between managed lanes and general purpose lanes, but an IAJR is not required because no connections are provided from outside of the right-of-way or between Interstate highways. No change was made in the final regulatory text.

§ 624.5 Definitions

Changes to the proposed regulatory text were made based on comments received pertaining to the definitions in § 624.5. The definition for Access Point was revised to include connections to managed lanes, such as high-occupancy vehicle (HOV) lanes, value priced lanes, high-occupancy toll (HOT) lanes, or exclusive or special use lanes, since they are part of the Interstate System and access to them must be controlled. While connections between managed lanes and general purpose lanes on the same Interstate highway are exempted from this regulation under § 624.3(c), inclusion here clarifies that other connections to managed lanes are subject to this regulation. A definition for Final Approval was added for clarity. The name for the technical report submitted by the State was changed to Interstate Access Justification Report (IAJR) to clarify that the report addresses access to the Interstate System, not justification for the Interstate overall. Consistent with the revised definition of Access Point, the definition of the Interstate System was revised to include managed lanes because these are a critical part of the Interstate System. The definition of the Interstate System was also revised to include portions of frontage roads that function as part of an interchange by providing movements to and from the crossroad. Since publishing the proposed rule, FHWA has fielded technical assistance questions regarding frontage roads and determined it important to clarify this point in the definition, consistent with guidance found at www.fhwa.dot.gov/planning/national_highway_system/interstate_highway_system/frontage.cfm. Access to frontage roads should be fully controlled in the vicinity of ramp gores, as described in the American Association of State Highway and Transportation Officials A Policy on Design Standards—Interstate System, 2016, which has been adopted by FHWA as a standard in § 625.4(a)(2). New or modified access to the frontage road is controlled by the State DOT and an IAJR under this regulation is not required. Therefore, the reference to a portion of frontage roads has not been added to the definition of Access Point in the final regulatory text. The definition for safety rest area was modified to limit the scope of the definition for the purposes of this regulation to safety rest areas located within the Interstate System right-of-way.

Comment: One individual suggested that the definition of “Access Point” in § 624.5 was not precise enough and could cause some ambiguity in the interpretation of what constitutes an access point to the Interstate System. They suggested FHWA specify the type and configuration of the access point, such as whether it is a ramp, a lane, a road, or a bridge, and how it connects to the Interstate mainline or crossroad.

Response: The definition of “Access Point” is centered on connections to Interstate System elements such as through lanes or shoulders, managed lanes, collector-distributor roads, or ramps that would provide direct access to the Interstate System consistent with the 1990 and 1998 policies. It is not specific to the type and configuration of the access point. Consistent with changes to the definition of “Interstate System” in § 624.5, the definition for Access Point was revised to include connections to managed lanes, such as HOV lanes, value priced lanes, HOT lanes, or exclusive or special use lanes, since they are part of the Interstate System and access to them must be controlled. While connections between managed lanes and general purpose lanes on the same Interstate highway are exempted from this regulation under § 624.3(c), inclusion here clarifies that other connections to managed lanes are subject to this regulation.

Comment: A commenter recommended expanding the definition of “Change in Access” in § 624.5 to exclude modification of an entrance or exit ramp location by less than 200 ft with no change in the number of access points or interchange configuration.

Response: The FHWA has determined that establishing a specific distance is not appropriate because each location is unique. The 2010 Interstate Access Informational Guide, section 3.3.2 lists some project types that may not require FHWA review and action, including shifts in a ramp's location within the same interchange configuration when the resulting ramp spacing will meet FHWA's design criteria adopted in § 625.4. No change was made in the final regulatory text.

Comment: A commenter recommended providing a definition in § 624.5 for “Final Approval” because it is unclear to what the final approval applies.

Response: The FHWA agrees with the suggestion and has added a definition for “Final Approval” in § 624.5.

Comment: One individual recommended that the definition of “Interstate System” be modified to include managed lanes (HOV lanes, etc.).

Response: The FHWA agrees that managed lanes within the Interstate right-of-way function as part of Interstate and impact the operations of the Interstate facility. The definition for the “Interstate System” in § 624.5 was modified to include managed lanes (including HOV lanes, value priced lanes, HOT lanes, or exclusive or special use lanes).

Comment: A commenter inquired whether a State DOT can install locked gate access for maintenance of the Interstate System without FHWA approval.

Response: The change in definition of an “Access Point” in § 624.5 allows State DOTs to install locked gate access without FHWA approval if the access does not provide a connection to the through lanes or shoulders, managed lanes, collector-distributor roads, or ramps on the Interstate System. No change was made in the final regulatory text.

Comment: A commenter inquired in § 624.5 about the definition of “Access Point” differentiating between locked gate access for vehicular use versus an access point for bikes and pedestrians.

Response: Locked gate access that provides a connection to through lanes or shoulders, managed lanes, collector-distributor roads, or ramps on the Interstate System will require an IAJR documenting an analysis to determine the safety, operations, and engineering aspects of the change. There is no distinction based on the mode of travel. Access points for pedestrians and bicyclists that do not connect to the roadways that comprise the Interstate System are not subject to this part. Coordination with FHWA is required to determine if a right-of-way use agreement is required in accordance with 23 CFR 710.405 and to evaluate any potential impact to the Interstate System safety or operations. No change was made in the final regulatory text.

Comment: Several commenters recommended amending the definition of “Safety Rest Area” in § 624.5 to include language that specifies the safety rest areas are within the Interstate right-of-way.

Response: Part 624 provides requirements for consideration of changes in access to the Interstate System. Safety Rest Areas located outside of the Interstate right-of-way with no connection to the Interstate System are not subject to the requirements of part 624. To clarify this point, FHWA revised the definition in § 624.5 of the final regulatory text to clarify that “Safety Rest Area” means a safety rest area that is located within the Interstate System right-of-way.

Comment: A commenter recommended clarifying the applicability of this part 624 to facilities serving active transportation users such as pedestrians, bicyclists, and micromobility users; and clarifying the intent of the NPRM language as it relates to all road users. A commenter also recommended clarifying the intended user application in the definitions or clarifying the steps required for bike/pedestrian/etc. facilities only.

Response: “Access point” is defined in § 624.5 as a permanent connection to facilities comprising the Interstate System, such as the through lanes or shoulders, managed lanes, collector-distributor roads, or ramps. There is no distinction based on the mode of travel. Access points for pedestrians and bicyclists that do not connect to the roadways that comprise the Interstate System are not subject to this part. Coordination with FHWA is required to determine if a right-of-way use agreement is required in accordance with 23 CFR 710.405 and to evaluate any potential impact to the Interstate System safety or operations. No change was made in the final regulatory text.

Comment: Several commenters asked for additional clarity on the definition of area of influence and recommend expanding the definition to include more detail.

Response: The definition of “Area of Influence” (AOI) in § 624.5 provides a basic understanding how the AOI extents are determined. Section 624.11(b)(3) provides the framework for determining the minimum extent of the AOI. The safety and operational impacts of the proposed change in access impel the need to extend the limits, as necessary, to support making an informed decision based on the consequences of the project. The FHWA should be consulted early in this process to ensure the proposed limits are adequate to evaluate the request for a change in access to the Interstate System. No change was made in the final regulatory text.

§ 624.7 Interstate System Access Requirements

Consistent with the proposed regulatory text, § 624.7 specifies the requirements applicable to Interstate System access. The phrase “safety for all roadway users” was replaced with “safety for all users of the transportation system” to be consistent with Agency guidance and clarify that this statement applied to all users of the transportation system, including trail users, rather than only users of the roadway. This change is also consistent with BIL language regarding Complete Streets. In addition, changes were made based on comments received. In § 624.7(a), the requirements regarding the currency for the operational and safety data used in the analysis have been separated to clarify that the safety analysis shall include the most recent 3 years of available safety data. The FHWA did not intend to limit safety data to 5 years. If the State DOT believes the older data is relevant based on the context of the project, it can be included in the safety data set for the project, as long as the most recent safety data is included. In § 624.7(f)(4), FHWA added an additional scenario where FHWA may grant an exception to the requirements in paragraphs (b) through (d) for locked gate access to a safety rest area from a local public road for the limited purpose of providing access to safety rest area employees, deliveries, and emergency vehicles.

Comment: A commenter recommended in § 624.7 that FHWA provide a time limitation guideline for microsimulation data so that there is no misunderstanding when agencies use microsimulation.

Response: The purpose of this requirement is to provide a general limitation on the age of data used in a traffic analysis. The FHWA provides guidance for applying microsimulation modeling software in the FHWA Traffic Analysis Toolbox Volume III. (https://ops.fhwa.dot.gov/publications/fhwahop18036/index.htm). Coordination with FHWA is recommended when developing State specific guidance for traffic analysis tools. No change was made in the final regulatory text.

Comment: Several commenters expressed concern about references in § 624.7 of the preamble to the 3-year travel demand model update timeframe, noting that while there is a 3-year requirement for the development of the Metropolitan Transportation Plans in non-attainment areas, no baseline requirement for this frequent of a model update exists for areas in attainment with National Ambient Air Quality Standards.

Response: The FHWA is not imposing new requirements for updating travel demand models on a 3-year cycle. The intent of § 624.7(a) is to ensure that reasonably current traffic data is being used in the operational analysis for justification reports since these reports provide the basis for decisionmaking. No change was made in the final regulatory text.

Comment: A commenter sought clarification on whether the traffic data requirement in § 624.7 applies outside of the metropolitan planning organizations (MPO).

Response: The traffic data requirement in § 624.7 applies to all requests for new or modified access to the Interstate System. No change was made in the final regulatory text.

Comment: A commenter sought clarification on what constitutes a partial interchange, particularly where a single interchange serves more than one crossroad in § 624.7.

Response: A partial interchange is an interchange that does not provide all of the basic movements, as defined in § 624.5. Movements can be accomplished utilizing more than one crossroad in close proximity where those crossroads are connected by frontage roads without being considered a partial interchange. For example, a split diamond interchange configuration can reduce the number of movements within each interchange and serve multiple crossroads. No change was made in the final regulatory text.

Comment: A commenter sought clarification regarding the § 624.7 preamble discussion on existing and projected land uses that should be examined as part of the proposed access modification.

Response: Section 624.7(a) requires that proposals for modified access consider the traffic operations and safety for all users of the transportation system in the project's area of influence, both now and in the future. Examining existing and projected land uses are a critical factor in these analyses. The scope of the review should include local future land use plans and approved developments. The design should be compatible with the communities' goals and needs that are demonstrated in their plans and policies which ensures a design that fits land use contexts of the community. No change was made in the final regulatory text.

Comment: A commenter recommended in § 624.7 that FHWA consider specifically mentioning the Highway Safety Manual methodologies.

Response: There are several safety analyses tools and techniques (quantitative or qualitative) that can be deployed to analyze build and no-build configurations of a proposed access modification. The FHWA does not require the use of any specific tool. The FHWA encourages the use of appropriate tools in a scope commensurate with the project complexity. No change was made in the final regulatory text.

Comment: Commenters suggested in § 624.7 that FHWA include more clarity on the definition of a significant adverse impact and asked whether State DOTs should work with FHWA to determine the significance of impacts. Two individuals suggested that FHWA provide objective and quantifiable criterion for determining the significance of an impact and provide more requirements in metro areas for determining whether a proposed change in access has a significant adverse impact on the safety or operations of the Interstate System.

Response: Defining a threshold for significant adverse impact is difficult without understanding the context of the unique project conditions and the users impacted. Based on the safety and operations analyses, judgement is used to determine whether an adverse impact is significant and employ mitigation to address concerns identified. State DOTs are encouraged to coordinate with FHWA to assist with determining the significance of impacts. No change was made in the final regulatory text.

Comment: A commenter is concerned that in § 624.7(a) adding “safety for all users within the project's area of influence” would add time to project scoping to define area of influence for each individual Interstate Access Point Approval project.

Response: The DOT is committed to the long-term goal of reaching zero roadway fatalities and has adopted the Safe System Approach to help address the crisis on our roadways. The Safe System Approach is the guiding paradigm of the National Roadway Safety Strategy (NRSS), and we are dedicated to implementing the actions outlined in the NRSS to move us closer to our zero deaths goal. Safety for all users, rather than focusing only on motor vehicle operators, must be our focus to reach this goal. This provision of § 624.7(a) ensures that proposals to modify access examine the impacts to all users of the transportation system and seize opportunities to improve the safety for vulnerable users when developing an access request. To that end, the existing and projected land use along the crossroad should be examined and opportunities to improve connectivity for pedestrian and bicycle travel should be considered as part of the access modification. This ensures the proposed design fits the land use contexts in the community in which the project is built. No change was made in the final regulatory text.

Comment: Regarding § 624.7(a), several commenters asked for clarification on whether data sets that include crash data more than 5 years old may be utilized in the safety evaluation.

Response: The purpose of this requirement is to ensure the most recent crash data available is being used to support the analysis. Using crash data that is outdated would not provide an accurate assessment of the safety performance of the facility because there may have been significant changes to travel patterns and conditions as evidenced by the need for the proposed access modifications. If the data collection includes data that is more than 5 years old and the State DOT believes the older data is relevant based on the context of the project, it can be included in the data set for the project, as long as the most recent data is also included. Coordination with FHWA in these situations would be recommended to discuss the justification for using older data in addition to recent data. The FHWA agrees that clarification is needed and revised § 624.7(a) to require the use of at least the most recent 3 years of available safety data.

Comment: Commenters recommend extending the time period in § 624.7(a) for which traffic and safety data is accepted for analysis beyond 5 years with a traffic validation.

Response: In FHWA's experience, the 5-year window will generally allow State DOTs to utilize the latest model developed by the MPO in which the project falls, if applicable. If the State DOT is performing an analysis and the MPO data is more than 5 years old, the State may develop their own data suitable for the analysis. It is critical for FHWA to evaluate a proposed access modification based on reasonably current data, keeping in mind that the State DOT may not begin construction for up to another 5-year period following an affirmative SO&E determination, in accordance with § 624.9(e). No change was made in the final regulatory text.

Comment: Commenters recommend in § 624.7(a) that FHWA clarify when the 5-year time period will be applied, specifically at the time of submission to FHWA.

Response: This requirement applies to the time period when the IAJR is submitted to FHWA. However, if there are significant delays in addressing initial FHWA comments and resubmitting the report to FHWA, then there may be a need for the State DOT to verify the data. State DOTs are encouraged to coordinate with FHWA early in the process when developing requests for Interstate System access to avoid significant delays to the review and approval processes.

Comment: A commenter recommended adding language to § 624.7(a) to suggest that safety hotspots identified within the area of influence but outside of the project limits should be communicated to the jurisdiction responsible for that roadway.

Response: The intent of the area of influence is to determine the comprehensive safety and operational impacts of the proposed access modification. If it is determined that the project is significantly impacting safety within the area of influence, then the project should mitigate for the impacts. The State DOT may need to coordinate with other jurisdictions to ensure local impacts are addressed. No change was made in the final regulatory text.

Comment: A commenter recommended in § 624.7(a) replacing the “or” with an “and”, and inserting the “20-year” traffic projection.

Response: The FHWA uses “or” to indicate that both the operations of the Interstate System and safety for all users in the projects area of influence are important and should be considered when developing a project. If there is a significant impact to either, the project would need to adequately address the impacts identified. Regarding future traffic projections, the 20-year traffic projection requirement is contained in 23 U.S.C. 109(b) and must be addressed as part of the analysis, but is not the focal point of this regulation. No change was made in the final regulatory text.

Comment: A commenter sought clarification on whether § 624.7(b) would prohibit a private road or commercial entrance from being located directly across a public roadway from the access point.

Response: The intent of this provision is to prevent access point connections that connect directly to private developments, parking lots, or private roads to ensure that the access point connection will remain open to the public and receive routine maintenance. A private connection across the public roadway from the terminus of the ramp at a crossroad is not expressly prohibited. However, as stated in A Policy on Design Standards—Interstate System published by the American Association of State Highway and Transportation Officials in 2016, which is the adopted standard under § 625.4(a)(2), controlling access on crossroads in the vicinity of interchanges can provide significant benefits to traffic operations and safety performance through the interchange area. For example, if a connection is made opposite an exit ramp terminus, the design needs to mitigate the potential for wrong way movements on the exit ramp. No change was made in the final regulatory text.

Comment: A commenter recommends adding language that would allow gated access for rest area employees and deliveries via local roads without direct access to the Interstate.

Response: The FHWA has determined that allowing a locked gate access for the limited purpose of providing access to safety rest area employees, deliveries, and emergency vehicles via local roads would be in the public interest by removing this traffic from the Interstate System. The FHWA has revised § 624.7(f) to add an exception for this purpose.

§ 624.9 Approval Process

Consistent with the proposed regulatory text, § 624.9 sets out the approval process for a change in access to the Interstate System. The phrase “congestion management process” was removed from § 624.9(d)(1) because this process is covered in the transportation planning regulations at 23 CFR part 450—Planning Assistance and Standards. A minor change to the proposed regulatory text was made to change the reference to the technical report from IJR to IAJR, consistent with the revised definition.

Comment: A commenter recommended including an appeal process for when the FHWA's decision differs from the State DOT's recommendation.

Response: The FHWA is supportive of State DOTs when it comes to developing and building projects. Early coordination between the State DOT and FHWA can help ensure that FHWA concerns are addressed early in the process. In the event FHWA's decision differs from the State DOT's recommendation, FHWA is open to having discussions with the State DOT to work on finding a path forward to ensure the project meets the safety and operational needs of the Interstate System Access process. No change was made in the final regulatory text.

Comment: Commenters recommended in § 624.9 that FHWA provide timeframes for the review and the steps involved in the approval process.

Response: Section 624.9 provides the framework of the process to receive approval for a proposed change in access. The State DOT is responsible for developing their policies and procedures as related to submitting requests for proposed changes in access. The State DOT may coordinate with FHWA to determine specific timeframes based on their policies and procedures. No change was made in the final regulatory text.

Comment: A commenter seeks clarification in § 624.9(d) on whether the SO&E determination can be made after a favorable NEPA decision.

Response: The SO&E determination can be made before or after receiving an approved NEPA decision. No change was made in the final regulatory text.

Comment: A commenter seeks clarification on whether the NEPA decision or the SO&E determination can occur independently from one another. They also seek to clarify, if a State DOT can decide to advance the NEPA process or the IAJR first.

Response: In § 624.9(d), FHWA provides the conditions that must be met for a State DOT to receive Final approval for a proposed change in access. The FHWA does not determine the order in which a State DOT advances the transportation planning, conformity, and NEPA requirements or seeks a SO&E determination for a proposed change in access. A State DOT can decide to advance either the NEPA process or the IAJR first or in parallel. No change was made in the final regulatory text.

Comment: In § 624.9(e), a commenter recommended extending the time period in between affirmative SO&E determination and proceeding to construction to 6 years while keeping a maximum of 10 years from the time the data was collected.

Response: The 5-year time period commencing after an affirmative SO&E determination for proceeding to construction provides up to 10 years to develop and begin construction on a project, but the 10-year window is not specified in the regulation, as proposed. If the project has not progressed to construction within 5 years of receiving an affirmative SO&E determination, FHWA has flexibility to allow the project to proceed to construction based on verification from the State DOT demonstrating that the requirements of § 624.7 are still met. No change was made in the final regulatory text.

Comment: Several commenters expressed support for extending the time period for projects to commence construction from 3 to 5 years in § 624.9(e). Several commenters would also welcome a further increase to the 8 years previously allowed under the 2009 Policy.

Response: In FHWA's experience, 5 years strikes the right balance of moving forward with projects based on reasonably current data versus requiring repetitive updates of access modification proposals by State DOTs. No change was made in the final regulatory text.

§ 624.11 Interstate Access Justification Report

Consistent with the proposed regulatory text, § 624.11 sets out the minimum requirements for the technical report submitted by the State for a change in access to the Interstate System. A minor change to the proposed section title and regulatory text was made to change the name of the technical report to Interstate Access Justification Report (IAJR), consistent with the revised definition.

Comment: A commenter seeks clarification in § 624.11(a) on what “other documents” means.

Response: “Other documents” means any document other than the IAJR that are often referenced in the IAJR but may not be available to the FHWA reviewer. As noted in the parentheses, these include feasibility studies, NEPA documents, or preliminary engineering reports that were developed by a State DOT during their project development process. No change was made in the final regulatory text.

Comment: In § 624.11(b)(3), a commenter recommended revising the minimum limits of the Area of Influence to an adjacent interchange within 2 miles of the proposed change in access, rather than the adjacent interchange with no limit on the distance.

Response: Section 624.11(d) provides FHWA with flexibility to determine the extent of the safety and operational analysis based on the complexity of the project. The State DOT can coordinate with FHWA to discuss and provide justification for proposed analysis limits for a project. No change was made in the final regulatory text.

Comment: A commenter recommended that § 624.11(b)(3) provide flexibility to shrink as well as expand the analysis limits based on the project complexity.

Response: Section § 624.11(b)(3) provides flexibility to extend the analysis to ensure that the limits are appropriate to fully understand the impact of the proposed changes in access on the Interstate System and local road network. Section § 624.11(d) provides flexibility to determine the extent of the analysis (shrink the limits, if justified) based on the complexity of the project. The State DOT can coordinate with FHWA to discuss and provide justification for proposed analysis limits for a specific modification request. In addition, the 2010 Interstate Access Informational Guide, section 3.3.2 lists some project types that may not require FHWA review and action. No change was made in the final regulatory text.

Comment: A commenter suggested that § 624.11(c) include more detailed language on wrong way movements to focus on isolated exit ramps without a corresponding entrance ramp.

Response: Section 624.11(c) provides the requirements and considerations that must be addressed when seeking approval for a partial interchange. The proposed regulatory text requires that the potential for wrong-way movements be addressed as part of the justification for a partial interchange, while allowing State DOTs to provide the justification appropriate for each specific proposal. No change was made in the final regulatory text.

§ 624.13 Programmatic Agreement

Consistent with the proposed regulatory text, § 624.13 specifies the provisions a State DOT must follow if they wish to enter into a PA with FHWA that would delegate to the State DOT responsibility for making SO&E determinations on behalf of FHWA in accordance with 23 U.S.C. 111(e) and section 1318(d) of the Moving Ahead for Progress in the 21st Century Act (MAP-21). No change was made in the final regulatory text.

Rulemaking Analyses and Notices

Executive Order 12866 (Regulatory Planning and Review), Executive Order 13563 (Improving Regulation and Regulatory Review), and DOT Rulemaking Policies and Procedures

The Office of Management and Budget (OMB) has not designated this rule a significant action under section 3(f) of Executive Order (E.O.) 12866. Accordingly, OMB has not reviewed it. This action complies with E.O.s 12866 and 13563 to improve regulation. This final rule codifies existing policy, processes and procedures relating to new or modified access to the Interstate System. The FHWA anticipates that this rule does not adversely affect, in any material way, any sector of the economy. In addition, the rule does not interfere with any action taken or planned by another agency and does not materially alter the budgetary impact of any entitlements, grants, user fees, or loan programs. The rule also does not raise any novel legal or policy issues. The FHWA anticipates that the economic impact of this rulemaking will be minimal; therefore, a full regulatory evaluation is not necessary.

Regulatory Flexibility Act

In compliance with the Regulatory Flexibility Act (Pub. L. 96-354; 5 U.S.C. 601-612), FHWA has evaluated the effects of this rule on small entities, such as local governments and businesses. Based on the evaluation, FHWA has determined that this action is not anticipated to have a significant economic impact on a substantial number of small entities. The rule codifies the processes that are currently in-use by State DOTs when changes in access to the Interstate System are sought, and States are not included in the definition of small entity set forth in 5 U.S.C. 601. The FHWA has determined that the projected impact upon small entities that utilize Federal-aid highway program funding for the development of highway improvement projects on the National Highway System is expected to be negligible. Therefore, FHWA certifies that the action will not have a significant economic impact on a substantial number of small entities.

Unfunded Mandates Reform Act of 1995

The FHWA has determined that this rule does not impose unfunded mandates as defined by the Unfunded Mandates Reform Act of 1995 (Pub. L. 104-4, 109 Stat. 48) (UMRA). The actions in this final rule will not result in the expenditure by State, local, and Tribal governments, in the aggregate, or by the private sector, of $168 million or more in any one year (when adjusted for inflation). In addition, the definition of “Federal Mandate” in the UMRA excludes financial assistance of the type in which State, local, or Tribal governments have authority to adjust their participation in the program in accordance with changes made in the program by the Federal Government. The Federal-aid highway program permits this type of flexibility.

Executive Order 13132 (Federalism Assessment)

The FHWA has analyzed this final rule in accordance with the principles and criteria contained in E.O. 13132. The FHWA has determined that this action does not have sufficient federalism implications to warrant the preparation of a federalism assessment. The FHWA has also determined that this action does not preempt any State law or State regulation or affect the States' ability to discharge traditional State governmental functions.

Executive Order 12372 (Intergovernmental Review)

The regulations implementing E.O. 12372 regarding intergovernmental consultation on Federal programs and activities apply to this program. This E.O. applies because State and local governments are directly affected by the regulation, which is a condition on Federal highway funding. Local entities should refer to the Catalog of Federal Domestic Assistance Program Number 20.205, Highway Planning and Construction, for further information.

Paperwork Reduction Act

The FHWA identified a paperwork burden and published the required notices at https://www.federalregister.gov/documents/2023/09/19/2023-20218/interstate-system-access. The OMB control number for the information collection is 2125-0679.

National Environmental Policy Act

The FHWA has analyzed this final rule for the purposes of the NEPA (42 U.S.C. 4321, et seq.) and has determined that it qualifies for a CE under 23 CFR 771.117(c)(20), which applies to the promulgation of regulations, and that no unusual circumstances are present under 23 CFR 771.117(b). Categorically excluded actions meet the criteria for CEs under the Council on Environmental Quality regulations and under 23 CFR 771.117(a) and normally do not require any further NEPA approvals by FHWA. This rule would not affect the NEPA process for Interstate access requests and FHWA will not grant a project final approval until the NEPA process was completed.

Executive Order 13175 (Tribal Consultation)

The FHWA has analyzed this final rule under E.O. 13175 and anticipates that it will not have substantial direct effects on one or more Indian Tribes, will not impose substantial direct compliance costs on Indian Tribal governments, and will not preempt Tribal law. This final rule will not impose any direct compliance requirements on Indian Tribal governments nor will it have any economic or other impacts on the viability of Indian Tribes. Therefore, the funding and consultation requirements of E.O. 13175 do not apply and a Tribal summary impact statement is not required.

Executive Order 12898 (Environmental Justice)

The E.O. 12898 requires that each Federal Agency make achieving environmental justice part of its mission by identifying and addressing, as appropriate, disproportionately high and adverse human health or environmental effects of its programs, policies, and activities on minorities and low-income populations. The FHWA has determined that this proposed rule does not raise any environmental justice issues.

Rulemaking Summary, 5 U.S.C. 553(b)(4)

As required by 5 U.S.C. 553(b)(4), a summary of this rule can be found in the Abstract section of the Department's Unified Agenda entry for this rulemaking at [https://www.reginfo.gov/public/do/eAgendaViewRule?pubId=202310&RIN=2125-AF89].

Regulation Identifier Number

A RIN is assigned to each regulatory action listed in the Unified Agenda of Federal Regulations. The Regulatory Information Service Center publishes the Unified Agenda in April and October of each year. The RIN number contained in the heading of this document can be used to cross-reference this action with the Unified Agenda.

List of Subjects in 23 CFR Part 624

Grant programs—transportation, Highways and roads, Reporting and recordkeeping requirements.

Issued under authority delegated in 49 CFR 1.81 and 1.85.
Kristen R. White,
Acting Administrator, Federal Highway Administration.

In consideration of the foregoing, FHWA amends title 23 of the Code of Federal Regulations, by adding part 624 to read as follows:

PART 624—INTERSTATE SYSTEM ACCESS

Sec.
624.1 Purpose.
624.3 Applicability.
624.5 Definitions.
624.7 Interstate System access requirements.
624.9 Approval process.
624.11 Interstate Access Justification Report.
624.13 Programmatic Agreement.

Authority: 23 U.S.C. 109(a) and (b) and 111; 23 CFR 1.32; 49 CFR 1.85.

§ 624.1 Purpose.

To prescribe requirements and procedures for State requests for, and FHWA consideration of, changes in access to the Interstate System.

§ 624.3 Applicability.

(a) Except as provided in paragraphs (b) through (e) of this section, this part is applicable to all segments designated as part of the Dwight D. Eisenhower National System of Interstate and Defense Highways (Interstate System) for which Federal-aid highway funds or other funds administered under title 23, United States Code, have been used in the past or are used to develop a project.

(b) This part is not applicable to ramps providing access to safety rest areas, information centers, weigh stations, and truck inspection stations located within the Interstate right-of-way when such areas are accessible to vehicles only to and from the Interstate System. Connections from other public facilities to facilities within the Interstate System right-of way, if an exception is granted in accordance with § 624.7(f), are subject to the requirements of this part.

(c) This part is not applicable to connections between managed lanes and general-purpose lanes on the same Interstate highway.

(d) This part is not applicable to State maintenance facilities that are located within the Interstate System right-of-way and not open to the public.

(e) This part is not applicable to access points to non-freeway Interstate System segments located in Alaska or Puerto Rico with average daily traffic volumes less than 400 vehicles per day. In such cases, the provisions of 23 U.S.C. 111 apply and the FHWA Division Administrator shall determine the level of analysis required to secure FHWA approval of the access modification.

§ 624.5 Definitions.

The following terms used in this part are defined as follows:

Access point. Any permanent connection (including those metered or closed at times) to the through lanes or shoulders, managed lanes, collector-distributor roads, or ramps on the Interstate System, including “locked gate access”.

Area of influence. The geographic extent to which a proposed change in access will affect traffic operations and safety.

Change in access. The addition of a new, or modification of an existing, interchange or access point along the Interstate System.

Final approval. Acceptance for the proposed change in access granted by FHWA upon completion of the appropriate transportation planning, air quality conformity, and environmental review requirements under National Environmental Policy Act (NEPA) and receiving concurrence on the Safety, Operations, and Engineering (SO&E) determination.

Interchange. A system of interconnecting roadways in conjunction with one or more grade separations that provides for the movement of traffic between two or more roadways or highways on different levels.

Interstate Access Justification Report (IAJR). A technical report that documents the safety, operations, and engineering aspects of a proposed change in access to the Interstate System and demonstrates that the proposal meets the provisions of this part.

Interstate System. The term “Interstate System” as defined in 23 U.S.C. 101, and includes mainline lanes; shoulders; existing, new, or modified ramps; collector-distributor roads; managed lanes (including high-occupancy vehicle lanes, value priced lanes, high-occupancy toll lanes, or exclusive or special use lanes); ramp termini; and portions of frontage roads that function as part of an interchange. For purposes of this part, the Interstate System shall be limited to those routes for which Federal-aid highway funds or other funds administered under title 23, United States Code, have been used in the past or will be used to develop a project.

Partial interchange. An interchange that does not provide for each of the eight basic movements (or four basic movements in the case of a three-legged interchange).

Programmatic Agreement (PA). Agreement between FHWA and a State DOT under 23 U.S.C. 111(e) to allow a State to review and make the Safety, Operations, and Engineering (SO&E) determination.

Public road. The term “public road” as defined in 23 U.S.C. 101.

Safety, Operations, and Engineering (SO&E) determination. Technical determination of whether the proposed location, configuration, geometric design, and signing related to the proposed change in access may be reasonably expected to serve the anticipated traffic of the Interstate System in a manner that is conducive to safety, durability, and economy of maintenance.

Safety rest area. The term “safety rest area” as defined in 23 CFR 752.3(a) that is located within the Interstate System right-of-way.

§ 624.7 Interstate System access requirements.

(a) The proposed change in access to the Interstate System shall not result in a significant adverse impact on the Interstate System traffic operations or the safety for all users of the transportation system in the project's area of influence, as demonstrated by operational and safety analyses based on both the current and future traffic projections using traffic data that is no more than 5 years old and at least the most recent 3 years of available safety data.

(b) Interstate System access points shall connect only to a public road. Connections directly to private developments, parking lots, or private roads are prohibited.

(c) Connections from outside of the Interstate System right-of-way to safety rest areas, information centers, weigh stations, and truck inspection stations located within the Interstate System right-of-way are prohibited.

(d) Each interchange shall provide for all traffic movements.

(e) A proposed change in access shall be designed to meet the standards in accordance with 23 CFR part 625 or have approved exceptions and shall comply with 23 CFR part 655.

(f) On a case by case basis, FHWA may grant exceptions to the requirements in paragraphs (b) through (d) of this section for:

(1) Locked gate access to private property for purposes of public safety;

(2) Locked gate access from an information center, weigh station, and truck inspection station to a local road for the purposes of public safety;

(3) Access from a safety rest area to an adjacent publicly owned conservation and recreation area if access to this area is available only through the safety rest area as allowed under 23 CFR 752.5(d);

(4) Locked gate access from a local public road to the safety rest area for the limited purpose of providing access to safety rest area employees, deliveries, and emergency vehicles; or

(5) A partial interchange where necessary to provide special access, such as to managed lanes or park and ride lots, or where factors such as the social, economic, and environmental impacts of a full interchange justify an exception.

§ 624.9 Approval process.

(a) To propose a change in access to the Interstate System, the State DOT shall submit electronically to FHWA a request letter and an IAJR complying with § 624.11 demonstrating that the proposed change in access meets the requirements of this part. Change in access requests will not be accepted from other parties besides a State DOT.

(b) Approval of a change in access to the Interstate System requires a SO&E determination and a final approval.

(c) The SO&E determination shall be based on the safety, operations, and engineering aspects of the request as documented in an IAJR meeting the requirements of this part. The FHWA shall make the SO&E determination, except where FHWA has delegated to a State DOT the authority to make the SO&E determination on behalf of FHWA by entering into a PA that meets the requirements of § 624.13.

(d) If a favorable SO&E determination is made, FHWA will consider whether final approval is appropriate for the proposed change in access to the Interstate System. Final approval may only be granted by FHWA and constitutes a major Federal action under NEPA. Final approval may be granted if the following conditions are met:

(1) Applicable transportation planning, conformity, and NEPA procedures have been completed.

(2) The alternative covered by the favorable SO&E determination is of the same scope and design as the alternative selected and approved in the NEPA decision.

(e) If the project has not progressed to construction within 5 years of receiving an affirmative SO&E determination, FHWA may require the State DOT to provide verification that the requirements of § 624.7 continue to be met based on current and projected future conditions.

§ 624.11 Interstate Access Justification Report.

(a) The IAJR shall be a standalone report. Relevant information from other documents (such as feasibility studies, NEPA documents or preliminary engineering reports) must be included in the appropriate section of the IAJR.

(b) At a minimum, an IAJR submitted to FHWA shall include all of the following, except as provided under paragraph (d) of this section.

(1) A description and overview of the proposed change in access including a project location map and distances to adjacent interchanges.

(2) Preliminary design documents sufficient to demonstrate the geometric viability of the proposal. The design documents shall include the design criteria, existing geometry overlaid with clearly labeled proposed geometric plan views, lane configuration schematics, typical sections, control-of-access lines, interchange spacing, ramp spacing, and other design features necessary to evaluate the proposed design.

(3) Operational and safety analyses that evaluate the impact of the proposed change in access on the Interstate System and local road network extending to the following area of influence limits at a minimum:

(i) Along the Interstate System, and interchanging freeway if applicable, to the adjacent existing or proposed interchange on either side of the proposed change in access, extending further as needed to ensure the limits of the analysis are appropriate to fully understand the impact of the proposed change in access on the Interstate System.

(ii) Along each crossroad to the first major intersection on either side of the proposed change in access, extending further as needed to demonstrate the safety and operational impacts that the proposed change in access and other transportation improvements may have on the local road network.

(4) A conceptual plan showing the type and location of the signs proposed to support the proposed design.

(c) The IAJR for a proposed partial interchange shall meet the following additional requirements.

(1) The IAJR shall include a full-interchange option with a comparison of the operational and safety analyses to the partial interchange option. The IAJR shall justify the necessity for a partial interchange alternative.

(2) The IAJR shall describe why a partial interchange is proposed and include the mitigation proposed to compensate for the missing basic movements, including wayfinding signage, local intersection improvements, mitigation of driver expectation leading to wrong-way movements on ramps, and other proposed strategies as necessary.

(3) The IAJR shall describe whether future provision of a full interchange is precluded by the proposed design.

(d) FHWA will consider the complexity of a change in access when determining the extent of the safety and operational analysis and the format of the IAJR.

§ 624.13 Programmatic Agreement.

A State DOT may submit to FHWA a written request to enter into a PA with FHWA that delegates to the State DOT the authority to make the SO&E determination on behalf of FHWA in accordance with 23 U.S.C. 111(e) and the requirements of this part.

(a) A PA may allow a State DOT to make the SO&E determination for all or any part of the following types of change in access requests:

(1) New freeway-to-crossroad (service) interchanges;

(2) Modifications to existing freeway-to-crossroad (service) interchanges; and

(3) Completion of basic movements at freeway-to-crossroad (service) interchanges.

(b) The State DOT request to enter into a PA with FHWA shall include:

(1) The types of changes in access listed in paragraph (a) of this section for which the State DOT would like to make SO&E determinations; and

(2) A discussion of controls the State DOT has implemented, resources available, and actions that would be taken if the PA is approved, as needed to address the considerations outlined in paragraph (c) of this section.

(c) Upon receipt of the request, FHWA will:

(1) Verify that appropriate controls and processes have been developed and implemented by the State DOT, and that the State DOT has the necessary resources and commits to conduct future actions in compliance with the terms of the requested PA. The FHWA will examine:

(i) State DOT policies, standard operating procedures, and processes, either in place or modified as needed to carry out the requirements of the PA;

(ii) Documentation demonstrating the processes and guidance that have been developed and implemented to support the development, analysis, documentation, review, and potential processing of each type of proposed change in access to the Interstate System to which the terms of the PA would apply;

(iii) Documentation demonstrating the process, guidance, assistance, and oversight the State DOT will provide to support local agencies (e.g., cities, counties, toll authorities, MPOs) that may propose or submit requests to the State DOT for changes in access to the Interstate System to which the terms of the PA would apply;

(iv) Documentation demonstrating that the State DOT has the expertise and resources (e.g., training, analysis tools) needed to carry out the requirements of the PA;

(v) Documentation of State DOT procedures to provide the necessary oversight, monitoring, and annual reporting to FHWA to ensure the changes in access to the Interstate System are processed consistent with the terms of the PA; and

(vi) Any other factors deemed necessary by the Secretary.

(2) Establish, with input from the State DOT, the scope and conditions for the State DOT's review of change in access requests and the process by which the State DOT will make the SO&E determination.

(d) A PA shall require that the State DOT submit electronically an annual report to FHWA summarizing its performance under the PA. The report shall, at a minimum:

(1) Include the results of all changes in access to the Interstate System that were processed and received a SO&E determination under the terms of the PA for the previous calendar year;

(2) Summarize the changes in access to the Interstate System that the State DOT plans to process in the coming calendar year;

(3) Assess the effectiveness of and verify that all changes in access to the Interstate System processed through this agreement were evaluated and processed in a manner consistent with the terms of this PA;

(4) Identify any areas where improvements are needed and what actions the State DOT is taking to implement those improvements; and

(5) Include actions taken by the State DOT as part of its quality control efforts.

(e) When all concerns have been addressed to the satisfaction of the Secretary, the PA may be executed.

[FR Doc. 2024-25757 Filed 11-6-24; 8:45 am]

BILLING CODE 4910-22-P